DEPARTMENT OF EDUCATION

National Research Center for Career and Technical Education and National Dissemination Center for Career and Technical Education

AGENCY: Office of Vocational and Adult Education, Department of Education.

ACTION: Notice of extension of project period and waivers.

SUMMARY: We hereby waive the requirements in 34 CFR 75.261(c)(2) and 75.250 as they apply to the projects funded in fiscal year (FY) 1999 under the National Research Centers authority of section 114(c)(5) and (6)(A) of the Carl D. Perkins Vocational and Technical Education Act of 1998 (the Perkins Act). We waive these requirements in order to be able to extend the project periods for the two current grants awarded under the FY 1999 National Research Centers (National Center or Centers) competition.

The waivers mean that: (1) Current grants may be continued at least through 2005 (and possibly for subsequent years, depending on the availability of appropriations for the National Centers in those years under the current statutory authority for the National Centers), instead of ending in 2004, and (2) we will not announce a new competition or make new awards in FY 2004.

DATES: This notice of extension of project period and waivers is effective July 28, 2004.

FOR FURTHER INFORMATION CONTACT: Sharon A. Jones, U.S. Department of Education, Office of Vocational and Adult Education, 400 Maryland Avenue, SW., room 11108, Potomac Center Plaza, Washington, DC 20202-7120. Telephone (202) 245-7803.

If you use a telecommunications device for the deaf (TDD), you may call the Federal Information Relay Service (FIRS) at 1-800-877-8339.

Individuals with disabilities may obtain this notice of extension of project period and waivers in an alternative format (e.g., Braille, large print, audiotape, or computer diskette) on request to the contact person listed under FOR FURTHER INFORMATION CONTACT.

SUPPLEMENTARY INFORMATION: On April 27, 2004, we published a notice in the Federal Register (69 FR 22772) proposing an extension of project period and waivers to continue the five-year cooperative agreements we entered into in FY 1999 with the University of Minnesota for the National Research Center for Career and Technical Education and with The Ohio State University for the National Dissemination Center for Career and Technical Education. These cooperative agreements are now in their fifth year, during which the Department typically would hold a competition for new National Centers. However, the Perkins Act, which includes authorization for the National Centers, expired at the end of FY 2003. Although the Perkins Act was automatically extended for one year under section 422 of the General Education Provisions Act (20 U.S.C. 1226a), with the uncertainties presented by the absence of authorizing legislation for the National Centers beyond 2004, we proposed not to hold a competition in FY 2004 for projects that might then operate for just one year, as grantees would not have time to establish and operate effective projects. We stated in the Federal Register notice that we were reluctant to announce a competition under which eligible entities would proceed through the application preparation and submission process while lacking critical information about the future of the program, and that we did not think that it would be in the public interest to do so in this case.

Accordingly, we proposed to review requests for continuation awards from the University of Minnesota (National Research Center for Career and Technical Education) and The Ohio State University (National Dissemination Center for Career and Technical Education) and extend the currently funded projects, rather than hold a new competition in FY 2004.

Public Comment

In response to the Secretary's invitation in the notice of proposed extension of project period and waivers, 17 parties submitted comments, all of which supported our proposed actions.

Waiver of Delayed Effective Date

The Administrative Procedure Act requires that a substantive rule shall be published at least 30 days before its effective date, except as otherwise provided for good cause (5 U.S.C. 553(d)(3)). During the 30-day public comment period we did not receive any comments objecting to the proposed extension of project period and waivers. For this reason, and in order to make timely continuation grants to the entities affected, the Secretary has determined that a delayed effective date is not required.

Waivers of Education Department General Administrative Regulations

In order to provide for continuation awards after the fifth year of the National Centers' cooperative agreements, we must waive the requirements in: (1) 34 CFR 75.250, which provides that the Secretary may approve a project period of up to 60 months, and (2) 34 CFR 75.261(c)(2), which establishes the conditions for extending a project period, including prohibiting the extension of a program's project period if it involves the obligation of additional Federal funds.

These waivers mean that: (1) The project period for the two National Centers grantees that received grants under the FY 1999 competition could be extended to December 31, 2005, instead of ending in December 2004, (2) continuation awards could be made for any additional year or years for which Congress appropriates funds under the existing statutory authority, (3) we will not announce a new competition in FY 2004 or make new awards in FY 2004, (4) the notice inviting applications for new awards for FY 1999 under this program, published in the Federal Register on May 19, 1999 (64 FR 27410) will govern any projects we extend under this notice, and (5) the approved applications submitted by the two current grantees will govern any continuation awards they receive.

Continuation of the Current Grantee Awards

We will make continuation awards for the National Centers using cooperative agreements. Therefore, we will continue to expect the Department's interaction with the National Centers to be characterized by continuing and regular participation in the project, unusually close collaboration with the grantees, and intervention or direct operational involvement in the review and approval of project activities.

Decisions regarding annual continuation awards will be based on the program narratives, budgets and budget narratives, and Grant Performance Reports submitted by grantees, and on the regulations in 34 CFR 75.253.

Consistent with 34 CFR 75.253, we will award continuation grants if we determine, based on information provided by each grantee, that each grantee is making substantial progress performing approved National Center grant activities.

We do not interpret these waivers as exempting current grantees from the account closing provisions of Pub. L. 101-510, or as extending the availability of FY 1999 funds awarded to the grantees. As a result of Pub. L. 101-510, appropriations available for a limited period may be used for payments of valid obligations for only five years after the expiration of their period of availability for Federal obligation. After that time, the unexpended balance of those funds is canceled and returned to the Treasury Department and is unavailable for restoration for any purpose.

Regulatory Flexibility Act Certification

The Secretary certifies that the extension of project period and waivers and the activities required to support additional years of funding will not have a significant economic impact on a substantial number of small entities. The two 1999 grantees currently receiving Federal funds are not “small entities,” as defined in the Regulatory Flexibility Act.

The small entities that are likely to be affected by this extension of project period and waivers are the following entities that are eligible for an award under the National Centers authority:

(1) Institutions of higher education.

(2) Public or private nonprofit organizations or agencies.

The extension of project period and waivers will not have a significant economic impact on these small entities.

Instructions for Requesting a Continuation Award

Generally, in order to receive a continuation grant, a grantee must submit an annual program narrative that describes the activities it intends to carry out during the year of the continuation award. The activities described must be consistent with, or be a logical extension of, the scope, goals, and objectives of the grantee's application approved under the FY 1999 National Research Centers competition and related cooperative agreements. A grantee must also submit a budget and budget narrative for each year for which it requests a continuation award. (34 CFR 75.253(c)(2)). A grantee should request a continuation award at least 60 days before its current grant expires. A grantee may request a continuation award for any year for which Congress appropriates funds under the current statutory authority.

Amount of New Awards Under Continuation Grant

The actual amount of any continuation award depends on factors such as: (1) The grantee's written statement describing how the funds made available under the continuation award will be used, (2) a cost analysis of the grantee's budget by the Department, and (3) whether the unobligated funds made available are needed to complete activities that were planned for completion in the prior budget period. (34 CFR 75.232 and 75.253(c)(2)(ii) and (3)).

Paperwork Reduction Act of 1995

This notice of extension of project period and waivers does not contain any information collection requirements.

Intergovernmental Review

This program is not subject to Executive Order 12372 and the regulations in 34 CFR part 79.

Assessment of Educational Impact

In the notice of proposed extension of project period and waivers, published in the Federal Register on April 27, 2004 (69 FR 22772), we requested comments on whether the proposed extension of project period and waivers would require transmission of information that any other agency or authority of the United States gathers or makes available.

Based on the response to the notice of proposed extension of project period and waivers and our own review, we have determined that this final notice of extension of project period and waivers does not require transmission of information that any other agency or authority of the United States gathers or makes available.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.051 National Research Centers)

Program Authority: 20 U.S.C. 2324(c)(5) and (6)(A).

Dated: July 22, 2004.
Susan Sclafani,
Assistant Secretary for Vocational and Adult Education.

[FR Doc. 04-17173 Filed 7-27-04; 8:45 am]

BILLING CODE 4000-01-P